DEPARTMENT OF HOMELAND SECURITY

[Docket No. DHS-2009-0138]

Homeland Security Advisory Council

AGENCY: The Office of Policy, DHS.

ACTION: Notice of Cancellation of the Homeland Security Advisory Council Federal Advisory Committee Meeting.

SUMMARY: The meeting of the Homeland Security Advisory Council, scheduled for December 4, 2009 from 3 to 4 p.m. EST is cancelled. Notice of this meeting was published in the November 10, 2009 Federal Register (Volume 74, Number 216) at DHS-2009-0138.

FOR FURTHER INFORMATION CONTACT: Contact the HSAC staff at 202-447-3135 or hsac@dhs.gov.

SUPPLEMENTARY INFORMATION: The HSAC provides independent advice to the Secretary of the Department of Homeland Security to aide in the creation and implementation of critical and actionable policies and capabilities across the spectrum of homeland security operations. The HSAC periodically reports, as requested, to the Secretary, on such matters. Notice of cancellation of this meeting is given under the Federal Advisory Committee Act (FACA), Public Law 92-463, as amended, 5 U.S.C. App.

Dated: November 25, 2009.
Becca Sharp,
Executive Director, Homeland Security Advisory Committee.

[FR Doc. E9-28861 Filed 12-2-09; 8:45 am]

BILLING CODE 9010-9M-P